DEPARTMENT OF JUSTICE

Office of Justice Programs

Agency Information Collection Activities: Proposed Collection; Comments Requested

ACTION: 60-day notice of information collection under review: revision of a currently approved collection. Deaths in Custody—series of collections from local jails, State prisons, juvenile and law enforcement detention centers.

The Department of Justice (DOJ), Office of Justice Programs, has submitted the following information collection request to the Office of Management and Budget (OMB) for review and approval in accordance with the Paperwork Reduction Act of 1995. The proposed information collection is published to obtain comments from the public and affected agencies. Comments are encouraged and will be accepted for 60 days until January 13, 2002. This process is conducted in accordance with 5 CFR 1320.10.

If you have comments especially on the estimated public burden or associated response time, suggestions, or need a copy of the proposed information collection instrument with instructions or additional information, please contact, Lawrence A. Greenfeld, Director, Bureau of Justice Statistics, 810 Seventh St. NW., Washington, DC 20531.

Request written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Revision of a currently approved collection

(2) Title of the Form/Collection: Deaths In Custody—Series of Collections from Local Jails, State Prisons, Juvenile and Law Enforcement Detention Centers. The series includes the forms: Quarterly Summary of Inmate Deaths in State Prison; State Prison Inmate Death Report; Quarterly Summary of Deaths in State Juvenile Residential Facilities; State Juvenile Residential Death Report; Quarterly Report on Inmates Under Jail Jurisdiction; Annual Summary on Inmates Under Jail Jurisdiction; Quarterly Report on Inmates in Private and Multi-Jurisdiction Jails; Annual Summary on Inmates in Private and Multi-Jurisdictional Jails; Quarterly Summary of Deaths in Law Enforcement Custody; and Law Enforcement Custodial Death Report.

(3) Agency form number, if any, and the applicable component of the Department of Justice sponsoring the collection: Form Number(s): NPS-4, NPS-4A, NPS-5, NPS-5A, CJ-9, CJ-9A, CJ-10, CJ-10A, CJ-11 and CJ-11A. Corrections Statistics Unit, Bureau of Justice Statistics, Office of Justice Programs, United States Department of Justice.

(4) Affected public who will be asked or required to respond, as well as a brief abstract: Primary: Local jail administrators, (one reporter from each of the 3,083 local jail jurisdictions in the United States), State prison administrators (one reporter from each of the 50 States and the District of Columbia), and State juvenile correctional administrators (one reporter from each of the 50 States and the District of Columbia) responsible for keeping records on inmates will be asked to provide information for the following categories: (a) During each reporting quarter, the number of deaths of persons in their custody; and (b) As of January 1 and December 31 of each reporting year, the number of mail and female inmates in their custody (local jails only); and (c) Between January 1 and December 31 of each reporting year, the number of male and female inmates admitted to their custody (local jails only); and (d) The name, date of birth, gender, race/ethnic origin, and date of death for each inmate who died in their custody during each reporting quarter; and (e) The admission date, legal status, and current offenses for each inmate who died in their custody during the reporting quarter; and (f) Whether or not an autopsy was conducted by a medical examiner or coroner to determine the cause of each inmate death that took place in their custody during the reporting quarter; and (g) The location and cause of each inmate death that took place in their custody during the reporting quarter; and (h) In cases where the cause of death was illness/natural causes (including AIDS), whether or not the cause of each inmate death was the result of a pre-existing medical condition, and whether or not the inmate had been receiving treatment for that medical condition; and (i) In cases where the cause of death was accidental injury, suicide, or homicide, when and where the incident causing the inmate's death took place.

As part of the conference agreement for FY2000 appropriations, the Bureau of Justice Statistics was directed by the U.S. Congress “to implement a voluntary annual reporting system of all deaths occurring in law enforcement custody.” BJS received OMB approval to conduct such an annual collection (OMB No. 1121-0249). In the time since submitting that collection for OMB approval, the President signed The Deaths in Custody Act of 2000 into law (Pub. L. 106-297). To comply with Pub. L. 106-297's new requirement for a quarterly collection of inmate death data from local jails, State prisons, and juvenile facilities, OMB granted BJS an expanded clearance under the existing number (OMB No. 1121-0249) for the following series of forms: NPS-4, NPS-4A, NPS-5, NPS-5A, CJ-9, CJ-9A, CJ-10, and CJ-10A.

When this expanded OMB Clearance No. 1121-0249 was granted in September 2001, BJS had not yet developed a data collection strategy for measuring deaths in law enforcement custody “in the process of arrest”, as required by Pub. L. 106-297. At this time, BJS proposes a data collection program to measure these law enforcement deaths which utilizes State-level central reporters (one reporter from each of the 50 States and the District of Columbia) from each State's criminal justice Statistical Analysis Center (SAC) to provide information for the following categories: (a) During each reporting quarter, the number of deaths of persons in the custody of State and local law enforcement during the process of arrest; (b) The deceased's name, date of birth, gender, race/Hispanic origin, and legal status at time of death; (c) The date and location of death, the manner and medical cause of death, and whether an autopsy was performed; (d) The law enforcement agency involved, and the offenses for which the inmate was being charged; (e) In cases of death prior to booking, whether death was the result of a pre-existing medical condition or injuries sustained at the crime or arrest scene, and whether the officer(s) involved used any weapons to cause the death; (f) In cases of death prior to booking, whether the deceased was under restraint in the time leading up to the death, and whether their behavior at the arrest scene included threats or the use of any force against the arresting officers; (g) In cases of death after booking, the time and date of the deceased's entry into the law enforcement booking facility where the death occurred, and the medical and mental condition of the deceased at the time of entry; and (h) In cases of accidental, homicide or suicide deaths after booking) who and what were the means of death (e.g., suicide by means of hanging).

In States where the SAC cannot perform this function, a statewide central reporter will be selected from among the following: the State Attorney General's office, the State police, the State Medical Examiner's Office, and the State respondent to the Federal Bureau of Investigation's Uniform Crime Reporting program. This collection will supplement the existing quarterly data collections on State prison, local jail and juvenile correctional facility inmate deaths which the Bureau of Justice Statistics has already begun in order to implement Pub. L. 106-297. The Bureau of Justice Statistics will use this new information to publish an annual report on deaths in custody. The report will be made available to the U.S. Congress, Executive Officer of the President, practitioners, researchers, students, the media, and others interested in criminal justice statistics and data.

(5) An estimate of the total number of respondents and the amount of time estimated for an average respondent to respond: There are an estimated 3,236 respondents associated with this collection. The estimated average time to respond per form is listed below.

Quarterly Summary of Inmate Deaths in State Prisons (NPS-4)/quarterly—51 respondents (average response time = 5 minutes)

State Prison Inmate Death Report (NPS-4A)/quarterly—51 respondents (average response time = 30 minutes per reported death)

Quarterly Summary of Deaths in State Juvenile Residential Facilities (NPS-5)/quarterly—51 respondents (average response time = 5 minutes)

State Juvenile Residential Death Report (NPS-5A)/quarterly—51 respondents (average response time = 30 minutes per reported death)

Quarterly Report on Inmate Deaths Under Jail Jurisdiction (CJ-9)/quarterly—2,989 respondents (average response time = 5 minutes + 30 minutes per reported death)

Annual Summary on Inmates Under Jail Jurisdiction (CJ-9A)/annual—2,989 respondents (average response time = 15 minutes)

Quarterly Report on Inmate Deaths in Private and Multi-Jurisdiction Jails (CJ-10)/quarterly—94 respondents (average response time = 5 minutes + 30 minutes per reported death)

Annual Summary on Inmates in Private and Multi-Jurisdiction Jails (CJ-10A)/annual—94 respondents (average response time = 15 minutes)

Quarterly Summary of Deaths in Law Enforcement Custody (CJ-11)/ quarterly—51 respondents (average response time = 5 minutes)

Law Enforcement Custodial Death Report (CJ-11A)/quarterly—51 respondents (average response time = 60 minutes per reported death).

(6) An estimate of the total public burden (in hours) associated with the collection: There are an estimated 4,319 burden hours annually associated with this information collection.

If additional information is required contact: Brenda E. Dyer, Department Deputy Clearance Officer, Information Management and Security Staff, Justice Management Division, Department of Justice, Patrick Henry Building, Suite 1600, 601 D Street NW., Washington, DC 20530.

Dated: November 5, 2002.
Brenda E. Dyer,
Department Deputy Clearance Officer, Department of Justice.

[FR Doc. 02-28738 Filed 11-12-02; 8:45 am]

BILLING CODE 4410-18-M